DEPARTMENT OF HOMELAND SECURITY

Coast Guard

33 CFR Part 165

[Docket No. USCG-2009-0296]

Security Zone; Portland Rose Festival on Willamette River

AGENCY: Coast Guard, DHS.

ACTION: Notice of enforcement of regulation.

SUMMARY: The Coast Guard will enforce the Portland Rose Festival Security Zone on the Willamette River from 1 p.m. on June 3, 2009, until 10 a.m. June 8, 2009. This action is necessary to ensure the safety and security of maritime traffic, including the public vessels present, on the Willamette River during the Portland Rose Festival. During the enforcement period, entry into the security zone detailed in 33 CFR 165.1312 is prohibited unless authorized by the Captain of the Port Portland or his designated representative.

DATES: The regulations in 33 CFR 165.1312 will be enforced from 1 p.m. on June 3, 2009, through 10 a.m. on June 8, 2009.

FOR FURTHER INFORMATION CONTACT: If you have questions on this notice, call or e-mail MST1 Jaime Sayers, Waterways Management, U.S. Coast Guard Sector Portland; telephone 503-240-9319, e-mail Jaime.A.Sayers@uscg.mil.

SUPPLEMENTARY INFORMATION: The Coast Guard will enforce the security zone for the Portland Rose Festival detailed in 33 CFR 165.1312 from 1 p.m. on June 3, 2009, until 10 a.m. on June 8, 2009.

Under the provisions of 33 CFR 165.1312, entry into the zone established by that section is prohibited unless authorized by the Captain of the Port Portland or his designated representative. Spectator vessels may transit outside the security zone but may not anchor, block, loiter in, or impede the transit of ship parade participants or official patrol vessels. The Coast Guard may be assisted by other Federal, State or local law enforcement agencies in enforcing this regulation.

This notice is issued under authority of 33 CFR 165.1312 and 5 U.S.C. 552(a). In addition to this notice in the Federal Register, the Coast Guard will provide the maritime community with notification of this enforcement period via Local Notice to Mariners and marine information broadcasts.

Dated: April 16, 2009.
F.G. Myer,
Captain, U.S. Coast Guard, Captain of the Port Portland.

[FR Doc. E9-9992 Filed 4-29-09; 8:45 am]

BILLING CODE 4910-15-P